DEPARTMENT OF TRANSPORTATION

Federal Aviation Administration

14 CFR Part 39

[Docket No. FAA-2009-0782; Directorate Identifier 2009-NM-011-AD]

RIN 2120-AA64

Airworthiness Directives; Airbus Model A330-201, -202, -203, -223, -243, -301, -302, -303, -321, -322, -323, -341, -342, and -343 Series Airplanes; and Model A340-211, -212, -213, -311, -312, and -313 Series Airplanes; and A340-541 and -642 Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

During a scheduled maintenance inspection on the MLG [main landing gear], the bogie stop pad was found deformed and cracked. Upon removal of the bogie stop pad for replacement, the bogie beam was also found cracked.

* * * * *

A second bogie beam crack has subsequently been found on another aircraft, located under a bogie stop pad which only had superficial paint damage.

This condition, if not detected and corrected, could result in the aircraft departing the runway or to the bogie detaching from the aircraft or gear collapses, which would all constitute unsafe conditions at speeds above 30 knots.

* * * * *

The proposed AD would require actions that are intended to address the unsafe condition described in the MCAI.

DATES: We must receive comments on this proposed AD by October 5, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

• For service information identified in this proposed AD, contact Airbus SAS—Airworthiness Office—EAL, 1 Rond Point Maurice Bellonte, 31707 Blagnac Cedex, France; fax +33 5 61 93 45 80; e-mail airworthiness.A330-A340@airbus.com; Internet http://www.airbus.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2009-0782; Directorate Identifier 2009-NM-011-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2008-0223, dated December 15, 2008 (referred to after this as “the MCAI”), to correct an unsafe condition for the specified products. The MCAI states:

During a scheduled maintenance inspection on the MLG [main landing gear], the bogie stop pad was found deformed and cracked. Upon removal of the bogie stop pad for replacement, the bogie beam was also found cracked.

Laboratory investigation indicates that an overload event has occurred and no fatigue propagation of the crack was evident. An investigation is still underway to establish the root cause of this overload.

A second bogie beam crack has subsequently been found on another aircraft, located under a bogie stop pad which only had superficial paint damage.

This condition, if not detected and corrected, could result in the aircraft departing the runway or to the bogie detaching from the aircraft or gear collapses, which would all constitute unsafe conditions at speeds above 30 knots.

As a precautionary measure, this AD requires detailed inspections under the bogie stop pad of both MLG bogie beams and, in case deformation or damage is detected, to apply the associated repair.

The one-time inspections consist of the following:

• Inspection for corrosion and damage to the paint and cadmium plate of the sliding piston subassembly.

• Inspection for cracking and deformation of the top and bottom surfaces and bolt holes of the bogie stop pad subassembly and bracket.

• Inspection for cracking, corrosion, and damage to protective treatments, and deformation of the bogie beam surface of the bogie beam subassembly where the bogie stop pad subassembly has been removed, and a magnetic particle non-destructive test inspection of the bogie beam assembly where the bogie stop pad subassembly has been removed.

Corrective actions include repairing protective treatments, removing corrosion, and replacing the bogie stop pad if necessary. For airplanes on which a crack or deformation in the bogie beam is found, corrective actions include contacting Messier-Dowty Limited and/or Airbus for instructions for repair, and repairing before further flight.

You may obtain further information by examining the MCAI in the AD docket.

Relevant Service Information

Airbus has issued the service bulletins identified in the following table:

Table—Service Information
For model— | Use Airbus Mandatory Service Bulletin— | Dated—
A330-201, -202, -203, -223, -243, -301, -302, -303, -321, -322, -323, -341, -342, -343 series airplanes | A330-32-3220 | October 10, 2008.
A340-211, -212, -213, -311, -312, -313 series airplanes | A340-32-4264 | October 10, 2008.
A340-541, -642 airplanes | A340-32-5087 | October 10, 2008.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a note within the proposed AD.

Costs of Compliance

Based on the service information, we estimate that this proposed AD would affect about 52 products of U.S. registry. We also estimate that it would take about 2 work-hours per product to comply with the basic requirements of this proposed AD. The average labor rate is $80 per work-hour. Based on these figures, we estimate the cost of the proposed AD on U.S. operators to be $8,320, or $160 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2009-0782; Directorate Identifier 2009-NM-011-AD.

Comments Due Date

(a) We must receive comments by October 5, 2009.

Affected ADs

(b) None.

Applicability

(c) This AD applies to Airbus Model A330-201, -202, -203, -223, -243, -301, -302, -303, -321, -322, -323, -341, -342, and -343 series airplanes; and Model A340-211, -212, -213, -311, -312, -313 series airplanes; and A340-541 and -642 airplanes; all serial numbers; certificated in any category.

Subject

(d) Air Transport Association (ATA) of America Code 32: Landing gear.

Reason

(e) The mandatory continuing airworthiness information (MCAI) states:

“During a scheduled maintenance inspection on the MLG [main landing gear], the bogie stop pad was found deformed and cracked. Upon removal of the bogie stop pad for replacement, the bogie beam was also found cracked.

“Laboratory investigation indicates that an overload event has occurred and no fatigue propagation of the crack was evident. An investigation is still underway to establish the root cause of this overload.

“A second bogie beam crack has subsequently been found on another aircraft, located under a bogie stop pad which only had superficial paint damage.

“This condition, if not detected and corrected, could result in the aircraft departing the runway or to the bogie detaching from the aircraft or gear collapses, which would all constitute unsafe conditions at speeds above 30 knots.

“As a precautionary measure, this AD requires detailed inspections under the bogie stop pad of both MLG bogie beams and, in case deformation or damage is detected, to apply the associated repair.”

Actions and Compliance

(f) Unless already done, do the following actions.

(1) At the applicable compliance time specified in paragraph (f)(1)(i), (f)(1)(ii), (f)(1)(iii), (f)(1)(iv), (f)(1)(v), or (f)(1)(vi) of this AD, perform one-time detailed inspections of both main landing gear bogie beams in the region of the bogie stop pad for detection of deformation and damage, and apply the applicable corrective actions, in accordance with instructions defined in the Airbus mandatory service bulletins listed in Table 1 of this AD, as applicable. Do all applicable corrective actions before further flight.

(i) Airplanes with 22 months or less and 2,500 flight cycles or less from the first flight with the original bogie beam as of the effective date of this AD: Not earlier than 2,500 flight cycles or 22 months on the original bogie beam, whichever occurs first, but not later than 40 months from first flight.

(ii) Airplanes with 22 months or less and 2,500 flight cycles or less on a new bogie beam installed in service as of the effective date of this AD: Not earlier than 2,500 flight cycles or 22 months on the new bogie beam, whichever occurs first, but no later than 40 months from the installation of a new bogie beam in service.

(iii) Airplanes with 22 months or less and 2,500 flight cycles or less on an overhauled bogie beam as of the effective date of this AD: Not earlier than 2,500 flight cycles or 22 months on the overhauled bogie beam, whichever occurs first, but no later than 40 months from the last overhaul.

(iv) Airplanes with more than 22 months or more than 2,500 flight cycles from the first flight with the original bogie beam, as of the effective date of this AD: Within 18 months after the effective date of this AD.

(v) Airplanes with more than 22 months or more than 2,500 flight cycles on a new bogie beam installed in service, as of the effective date of this AD: Within 18 months after the effective date of this AD.

(vi) Airplanes with more than 22 months or more than 2,500 flight cycles on an overhauled bogie beam, as of the effective date of this AD: Within 18 months after the effective date of this AD.

Table 1—Service Bulletins
For model— | Use Airbus Mandatory Service Bulletin— | Dated—
A330-201, -202, -203, -223, -243, -301, -302, -303, -321, -322, -323, -341, -342, -343 series airplanes | A330-32-3220 | October 10, 2008.
A340-211, -212, -213, -311, -312, -313 series airplanes | A340-32-4264 | October 10, 2008.
A340-541, -642 airplanes | A340-32-5087 | October 10, 2008.

(2) Report the results, including no findings of the inspection required by paragraph (f)(1) of this AD, to Airbus, Customer Services Directorate,

1 Rond Point Maurice Bellonte, 31707 Blagnac Cedex France; Attn: SEDCC1 Technical Data and Documentation Services; Fax (+33) 5 61 93 28 06; e-mail sb.reporting@airbus.com; at the applicable time specified in paragraph (f)(2)(i) or (f)(2)(ii) of this AD.

(i) If the inspection is done on or after the effective date of this AD: Submit the report within 30 days after the inspection.

(ii) If the inspection was accomplished prior to the effective date of this AD: Submit the report within 30 days after the effective date of this AD.

FAA AD Differences

Note 1: This AD differs from the MCAI and/or service information as follows: No differences.

Other FAA AD Provisions

(g) The following provisions also apply to this AD:

(1) Alternative Methods of Compliance (AMOCs): The Manager, International Branch, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Airworthiness Directive 2008-0223, dated December 15, 2008, and the Airbus mandatory service bulletins listed in Table 1 of this AD, for related information.

Issued in Renton, Washington, on August 26, 2009.
Ali Bahrami,
Manager, Transport Airplane Directorate, Aircraft Certification Service.

[FR Doc. E9-21317 Filed 9-3-09; 8:45 am]

BILLING CODE 4910-13-P